ENVIRONMENTAL PROTECTION AGENCY

[FRL-6606-2]

Extension of Time to Comment on Agency Information Collection Activities: Proposed Collection; Comment Request; National Oil and Hazardous Substances Pollution Contingency Plan, Subpart J

AGENCY: Environmental Protection Agency (EPA).

ACTION: Notice of extension of time to comment on Agency Information Collection Activities: proposed collection; comment request.

SUMMARY: The Environmental Protection Agency (EPA) is announcing an extension of time to comment on the National Oil and Hazardous Substances Pollution Contingency Plan-Subpart J Information Collection Request renewal.

DATES: Comments are due by June 12, 2000.

ADDRESSES: Send comments to EPA, 5203G, 1200 Pennsylvania Avenue NW, Washington DC 20460. Materials relevant to this ICR may be inspected from 9 a.m. to 4 p.m., Monday through Friday, by visiting the Public Docket, located at 1235 Jefferson-Davis Highway (ground floor), Arlington, Virginia 22202. The docket number for this notice is SPSUBJ. The telephone number for the Public Docket is (703) 603-9232.

FOR FURTHER INFORMATION CONTACT: William “Nick” Nichols, (703) 603-9918, Facsimile Number (703) 603-9116, e-mail:nichols.nick@epa.gov.

SUPPLEMENTARY INFORMATION: The EPA announces an extension of time to submit comments on the National Oil and Hazardous Substances Pollution Contingency Plan-subpart J Information Collection Request renewal from May 17, 2000 to June 12, 2000. Subpart J of the NCP allows and regulates the use of chemical and biological oil spill cleanup and control agents. The information collected is supplied by the manufacturer of such products. This information and data are then analyzed by EPA to determine the appropriateness, and under which category, the product may be listed on the NCP Product Schedule. This product data are critical for EPA to assure effectiveness and toxicity data for these products are available to the oil spill community for their use. The original document for comment was published in the Federal Register at 65 FR 20451 (April 17, 2000).

Dated: May 3, 2000.
Stephen D. Luftig,
Director, Office of Emergency and Remedial Response.

[FR Doc. 00-12020 Filed 5-11-00; 8:45 am]

BILLING CODE 6560-50-P